SOCIAL SECURITY ADMINISTRATION

Agency Information Collection Activities: Proposed Request and Comment Request

The Social Security Administration (SSA) publishes a list of information collection packages that will require clearance by the Office of Management and Budget (OMB) in compliance with Pub. L. 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA, Fax: 202-395-6974.

(SSA), Social Security Administration, DCFAM, Attn: Reports Clearance Officer, 1333 Annex Building, 6401 Security Blvd., Baltimore, MD 21235, Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Employment Relationship Questionnaire—20 CFR 404.1007—0960-0040. Form SSA-7160-F4 is used in developing the question of employer-employee relationships, except where the worker is an officer of a corporation. This form gathers the information needed for developing the employment relationship, and determining whether a beneficiary is self-employed or an employee. Respondents are beneficiaries questioning their status as employees and employers.

Type of Request: Extension of an OMB-approved information collection.

Number of Respondents: 16,000.

Frequency of Response: 1.

Average Burden Per Response: 25 minutes.

Estimated Annual Burden: 6,667 hours.

2. State Supplementation Provisions: Agreement; Payments—20 CFR 416.2095-416.2098, 416.2099—0960-0240. Section 1618 of the Social Security Act contains pass-along provisions of the Social Security amendments. These provisions require that States which supplement the Federal Supplemental Security Income (SSI) payments also pass along Federal cost-of-living increases to individuals who are eligible for State supplemental payments. If a State fails to keep payments at the required level, it becomes ineligible for Medicaid reimbursement under Title XIX of the Social Security Act. In order to make sure the States are keeping the payments, they submit their payment amounts to SSA. Seven of the participating States may use a total-expenditures method, in which they send their total expenditures to SSA four times per year to prove that they are maintaining the regulated cost-of-living increase. The remaining twenty three States send SSA one annual report which shows that they have maintained the cost-of-living increase as per the regulations. Respondents are State agencies administering supplemental programs.

Type of Request: Extension of an OMB-approved information collection.

Number of Respondents: 30.

Reporting method | Number of respondents | Frequency of response | Average burden per response | Estimated annual burden hours
Total Expenditures | 7 | 4 | 60 | 28
Maintenance of Payment Levels | 23 | 1 | 60 | 23
Total | 30 |  |  | 51

Estimated Annual Burden: 51 hours.

3. Vocational Rehabilitation Provider Claim—20 CFR 404.2108(b), 404.2117(c)(1) and (2), 404.2101(b) and (c), 404.2121(a), 416.2208(b), 416.2217(c)(1) and (2), 416.2201(b) and (c), 416.2221(a)—0960-0310. SSA refers certain disability beneficiaries to State Vocational Rehabilitation (VR) agencies for vocational rehabilitation services. Under Social Security regulations, the State VR agencies must report certain information to SSA as follows:

(a) The State VR agencies use the SSA-199 to make claims for reimbursement of the costs incurred from providing VR services for the beneficiaries. The information collected on the SSA-199 is used by SSA to determine whether or not, and how much, to pay the VR agencies under SSA's VR program (20 CFR 404.2108(b) and 416.2208(b).

(b) SSA requires the VR agencies to certify their adherence to cost containment policies and procedures to ensure that the costs we reimburse are in accordance with these cost containment policies (20 CFR 404.2117(c) and 416.2217(c).

(c) SSA requires the VR agencies to prepare causality statements for validation review. This enables SSA to assess the appropriateness of its reimbursement policies, and when/where changes should be considered to ensure that maximum benefits from VR services are secured at the appropriate level of cost to the trust/general funds.

Respondents are State VR agencies who offer Vocational and Employment services for SSA beneficiaries.

Type of Request: Revision of an OMB-approved information collection.

Number of Respondents: 80.

Estimated Annual Burden: 5,320 hours.

CFR sections | Number of respondents | Frequency of response | Total responses | Average burden per response | Estimated annual burden hours
(a) SSA-199, 404.2108(b) & 416.2208(b) | 80 | * 160 | 12,800 | 23 | 4,907
(b) 404.2117(c) & 416.2217(c) | 80 | ** 1 | 80 | 60 | 80
(c) 404.2121(a) & 416.2221(a) | 80 | ** 3 | 240 | 100 | 400
Total | 80 |  | 13,120 |  | 5,387
* Each year.
** Per year.

4. Medicare Part B Income-Related Premium—Life-Changing Event Form—0960-NEW. As per the Medicare Modernization Act of 2003, beginning in January 2007 selected beneficiaries of Medicare Part B insurance will have to pay a new income-related monthly adjustment amount (IRMAA). The amount of the IRMAA is based on income tax return data obtained from the Internal Revenue Service. If affected Medicare Part B beneficiaries believe that more recent tax data should be used because a life-changing event has occurred that significantly reduces their income, they can report these changes to SSA and ask for a new initial determination of their IRMAA. SSA believes that most respondents will go to a field office and do this in person; however some respondents may choose to contact SSA by mail and they can use form SSA-44, the Medicare Part B Income-Related Premium—Life-Changing Event form. The respondents are Medicare Part B beneficiaries who want SSA to use more recent income data in determining the amount of their IRMAA.

Type of Request: New information collection.

Method of information collection | Number of respondents | Frequency of response | Average burden per response (minutes) | Estimated annual burden hours
Personal Interview | 68,490 | 1 | 60 | 68,490
Form | 7,610 | 1 | 90 | 11,415
Total | 76,100 |  |  | 79,905

Total Burden Hours: 79,905 hours.

4. Protection and Advocacy for Beneficiaries of Social Security (PABSS)—Program Performance Report—0960-NEW.

Background

In August of 2004, SSA announced its intention to award grants to establish community-based protection and advocacy projects in every State and U.S. Territory, as authorized under section 1150 of the Social Security Act. Potential awardees were protection and advocacy organizations established under Title I of the Developmental Disabilities Assistance and Bill of Rights Act which submitted a timely application conforming to the requirements in the notice. The projects funded under this grant are part of SSA's strategy to increase the number of beneficiaries who return to work and achieve self-sufficiency as the result of receiving advocacy or other services. The overall goal of the program is to provide information and advice about obtaining vocational rehabilitation and employment services and to provide advocacy or other services that a beneficiary with a disability may need to secure, maintain, or regain gainful employment.

Collection Activity

The PABSS Program Performance Report collects statistical information from the various Protection and Advocacy (P&A) projects to manage program performance. SSA uses the information to evaluate the efficacy of the program and to ensure that those dollars appropriated for PABSS services are being spent on SSA beneficiaries. The project data will be valuable to SSA in its analysis of and future planning for the Social Security Disability Insurance (SSDI) and SSI programs. The respondents to this collection are the 57 designated P&A project system sites in each of the fifty States, the District of Columbia, and the U.S. Territories.

Type of Request: New information collection.

Title of collection | Number of annual | Respondents | Frequency of response | Average burden per response (hours) | Estimated annual burden hours
PABSS Program Performance Report | 57 | 2 | 1 | 114

5. Pilot Program for Participating in Administrative Law Judge Hearings by Using Privately Owned Video Teleconferencing (VTC) Equipment.

Background

On February 3, 2003, the Commissioner of Social Security published a final rule allowing SSA to conduct hearings before administrative law judges (ALJs) at which a party or parties to the hearing and/or a witness or witnesses may appear before the ALJ by video teleconferencing (68 FR No. 22, 5210). In that final rule we noted that dialing into SSA's VTC network from private facilities, such as facilities owned by a law firm, could be possible at a future date. Appearances by video teleconference are also central to the rules for the new disability determination process (final rule published March 31, 2006 71 FR No. 62, 16423). Pursuant to these rules, SSA is now preparing to pilot a program wherein private representatives and their clients may appear at ALJ hearings using privately owned video equipment.

The VTC Activity

SSA plans to expand its Video Teleconferencing program of Administrative Law Judge hearings by allowing these hearings to be conducted from private representative sites that have been certified by the agency. Representatives who are interested in participating in the pilot program or the permanent program will need to provide some basic information about their location, the area they serve and their expected workload. Because private video sites are being used, the pilot guidelines provide for site inspections, certain on-the-record certifications and other claimant safeguards to help ensure that no claimants are disadvantaged by participating in their hearing from a private site. Respondents to this collection will be the claimant's representatives who elect to participate in the pilot.

The pilot is structured to begin with 10 private video sites expanding to 30 private sites after a six month evaluation period. There will be a second evaluation period after the 30 sites have operated for a six month period. SSA will then make final decisions regarding operating procedures for a permanent program.

Type of Request: New Information Collection.

Total Burden Hours for all Collections: 717 burden hours (shown below).

Phase-I
[10 sites for 6 months]
Collection activity | Number of respondents | Frequency of response | Average burden per response (minutes) | Estimated annual burden hours
Expression of Interest/Initial Contact | 100 | 1 | 15 | 25
Certifications Made in the Opening Statement of the Hearing | 10 | 100 | 10 | 167
Totals | 110 |  |  | 192

Phase-II
[30 sites for 6 months]
Collection activity | Number of respondents | Frequency of response | Average burden per response | Estimated annual burden hours
Expression of Interest/Initial Contact | 100 | 1 | 15 | 25
Certifications Made in the Opening Statement of the Hearing | 30 | 100 | 10 | 500
Totals | 130 |  |  | 525

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Request for Reconsideration—Disability Cessation—20 CFR 404.909, 416.1409—0960-0349. Form SSA-789-U4 is used by claimants to request reconsideration of a determination and to indicate whether or not they wish to appear at a disability hearing. This form can also be used to submit any additional information/evidence for use in the reconsidered determination and to indicate if an interpreter is needed for the hearing. SSA will use this information to either arrange for a hearing or to prepare a decision based on the evidence of record. The respondents are applicants or claimants for Social Security benefits or Supplemental Security Income (SSI) payments.

Type of Request: Extension of an OMB-approved information collection.

Number of Respondents: 49,000.

Frequency of Response: 1.

Average Burden Per Response: 13 minutes.

Estimated Annual Burden: 10,617 hours.

2. Psychiatric Review Technique—20 CFR 404.1520a, 416.920a—0960-0413. Form SSA-2506-BK assists the State Disability Determination Services (DDSs) in evaluating mental impairments by helping to: organize and present the mental findings in a clear, concise and consistent manner; consider and evaluate all aspects of the mental impairment relevant to the individual's ability to perform work-related mental functions; and identify additional evidence needed to determine impairment severity. The respondents are the 52 State DDSs administering the Title II and Title XVI programs.

Type of Request: Extension of an OMB-approved information collection.

Number of Respondents: 52.

Frequency of Response: 20,595.

Total Annual Responses: 1,070,940.

Average Burden Per Response: 15 minutes.

Estimated Annual Burden: 267,735 hours.

3. Request for Internet Services-Password Authentication—20 CFR 401.45—0960-0632. Password Authentication is used to establish a password process for verifying the identity of individuals who choose to use the Internet and Automated Telephone Response for conducting business with SSA. Services are password protected when it is necessary due to the nature of the information being transmitted or because the requestor requires a higher level of protection. The password process allows requestors to establish their identities with SSA and create a password which they can then use to access their own personal information. The respondents are individuals electing to do business with SSA through an electronic medium.

Type of Request: Revision of an OMB-approved information collection.

Number of Respondents: 1,630,771.

Frequency of Response: 1.

Average Burden Per Response: 10 minutes.

Estimated Annual Burden: 271,795 hours.

4. Function Report—Adult—Third Party—20 CFR 404.1512, 416.912—0960-0635. The information collected on the SSA-3380-BK is needed to make determinations on SSI and Social Security Disability (SSDI) claims. This information is necessary for case development and adjudication, and is used by State DDS evaluators as an evidentiary source used in the disability evaluation process. The respondents are third parties familiar with the functional limitations (or lack thereof) of claimants who apply for SSDI benefits and SSI payments.

Type of Request: Revision of an OMB-approved information collection.

Number of Respondents: 1,000,000.

Frequency of Response: 1.

Average Burden Per Response: 60 minutes.

Estimated Annual Burden: 1,000,000 hours.

5. Disability Hearing Officer's Decision—Title XVI Disabled Child (DC) Continuing Disability Review—20 CFR 404.913-.914, 404.917, 416.994a, 416.1413-.1414, 416.1417—0960-0657. Form SSA-1209-BK is used by the disability hearing officer conducting the disability hearing to prepare and issue a written reconsidered determination—specifically for evaluating Title XVI childhood disability cases. The form provides the framework for addressing the crucial elements of the case in a sequential and logical fashion, and the completed form is the official document of the decision. Respondents are disability hearing officers in State DDSs.

Type of Request: Extension of an OMB-approved information collection.

Number of Respondents: 35,000.

Frequency of Response: 1.

Average Burden Per Response: 75 minutes.

Estimated Annual Burden: 43,750 hours.

6. Representative Payment Policies Regulation—20 CFR 404.2011, 404.2025, 416.611, 416.625—0960-0679. In cases where SSA determines that it is not in a beneficiary's best interest to receive payments directly as it may cause substantial harm, the beneficiaries may dispute this decision. If they do, they provide SSA with information which SSA will take into consideration when reevaluating the decision. Representative payees must also provide SSA with information regarding their relationship, responsibility, and how payments were used for the beneficiary. Respondents are beneficiaries and representative payees.

Type of Request: Revision of an OMB-approved information collection.

Estimated Annual Burden: 363 hours.

CFR section | Number of respondents | Frequency of response | Average burden per response (minutes) | Estimated annual burden hours
404.2011(a) (1), 416.611(a) (1) | 250 | 1 | 15 | 63
404.2025, 416.625 | 3,000 | 1 | 6 | 300
Totals | 3,250 |  |  | 363

7. Statement of Reclamation Action—31 CFR 210—0960-NEW. Form SSA-1713 collects information regarding whether, how and when a Canadian bank was able to return erroneous payments made after the death of a beneficiary who elected to have payments sent to Canada. The SSA-1713 is sent with the SSA-1712, an SSA-generated cover sheet which provides the Canadian bank with information regarding the deceased beneficiary. In this way, SSA can reclaim funds which were erroneously paid. The respondents are Canadian financial institutions to which Social Security payments have been made.

Type of Request: Existing Information Collection in Use Without an OMB Number.

Number of Respondents: 15.

Frequency of Response: 1.

Average Burden Per Response: 5 minutes.

Estimated Annual Burden: 1 hour.

8. Statement for Determining Continuing Eligibility, Supplemental Security Income Payment—20 CFR, Subpart D, 416.204—0960-0145. SSA uses form SSA-8202-BK to conduct low- and middle-error-profile (LEP-MEP) telephone or face-to-face redetermination (RZ) interviews with SSI recipients and representative payees. The information collected during the interview is used to determine whether SSI recipients have met and continue to meet all statutory and regulatory requirements for SSI eligibility and whether they have been, and are still receiving, the correct payment amount. Form SSA-8202-OCR-SM (Optical Character Recognition Self-Mailer) collects information similar to that collected on Form SSA-8202-BK. However, it is used exclusively in LEP RZ cases on a 6-year cycle.

Type of Request: Revision of an OMB-approved collection.

Forms | Number of respondents | Frequency of response | Average burden per response (minutes) | Estimated annual burden hours
SSA-8202-F6 | 1,000,000 | 1 | 21 | 350,000
SSA-8202-OCR-SM | 700,000 | 1 | 11 | 128,333
Totals | 1,700,000 |  |  | 478,333

9. Statement for Determining Continuing Eligibility, Supplemental Security Income Payment(s)—20 CFR Subpart B, 416.204—0960-0416. SSA uses the information collected on form SSA-8203-BK for high-error-profile (HEP) redeterminations of disability to determine whether SSI recipients have met and continue to meet all statutory and regulatory requirements for SSI eligibility and whether they have been, and are still receiving, the correct payment amount. The information is normally completed in field offices by personal contact (face-to-face or telephone interview) using the automated Modernized SSI Claim System (MSSICS). The respondents are recipients of Title XVI benefits.

Type of Request: Revision of an OMB-approved information collection.

Collection method | Number of respondents | Frequency of response | Average burden per response (minutes) | Estimated annual burden hours
MISSICS | 109,012 | 1 | 20 | 36,337
MISSICS/Signature Proxy | 36,338 | 1 | 19 | 11,507
Paper | 25,650 | 1 | 20 | 8,550
Totals | 171,000 |  |  | 56,394

Dated: July 26, 2006.
Elizabeth A. Davidson,
Reports Clearance Officer, Social Security Administration.

[FR Doc. E6-12255 Filed 7-28-06; 8:45 am]

BILLING CODE 4191-02-P